COMMISSION ON CIVIL RIGHTS

Sunshine Act Notice

AGENCY: United States Commission on Civil Rights.

ACTION: Notice of meeting.

DATE AND TIME: Tuesday, September 20, 2011; 4 p.m. EDT.

PLACE: Via Teleconference, Public Dial in: 1-800-597-7623, Conference ID # 11909439.

Meeting Agenda

This meeting is open to the public, except where noted otherwise.

I. Approval of Agenda.

II. Discussion of the Agency's 2012 Appropriations Status.

III. Adjourn.

CONTACT PERSON FOR FURTHER INFORMATION: Lenore Ostrowsky, Acting Chief, Public Affairs Unit, (202) 376-8591.

Dated: September 20, 2011.
Kimberly Tolhurst,
Senior Attorney-Advisor.

[FR Doc. 2011-24487 Filed 9-20-11; 4:15 pm]

BILLING CODE 6335-01-P